DEPARTMENT OF HOMELAND SECURITY

Federal Emergency Management Agency

[Docket ID FEMA-2020-0002; Internal Agency Docket No. FEMA-B-2059]

Changes in Flood Hazard Determinations

AGENCY: Federal Emergency Management Agency, DHS.

ACTION: Notice.

SUMMARY: This notice lists communities where the addition or modification of Base Flood Elevations (BFEs), base flood depths, Special Flood Hazard Area (SFHA) boundaries or zone designations, or the regulatory floodway (hereinafter referred to as flood hazard determinations), as shown on the Flood Insurance Rate Maps (FIRMs), and where applicable, in the supporting Flood Insurance Study (FIS) reports, prepared by the Federal Emergency Management Agency (FEMA) for each community, is appropriate because of new scientific or technical data. The FIRM, and where applicable, portions of the FIS report, have been revised to reflect these flood hazard determinations through issuance of a Letter of Map Revision (LOMR), in accordance with Federal Regulations. The LOMR will be used by insurance agents and others to calculate appropriate flood insurance premium rates for new buildings and the contents of those buildings. For rating purposes, the currently effective community number is shown in the table below and must be used for all new policies and renewals.

DATES: These flood hazard determinations will be finalized on the dates listed in the table below and revise the FIRM panels and FIS report in effect prior to this determination for the listed communities.

From the date of the second publication of notification of these changes in a newspaper of local circulation, any person has 90 days in which to request through the community that the Deputy Associate Administrator for Insurance and Mitigation reconsider the changes. The flood hazard determination information may be changed during the 90-day period.

ADDRESSES: The affected communities are listed in the table below. Revised flood hazard information for each community is available for inspection at both the online location and the respective community map repository address listed in the table below. Additionally, the current effective FIRM and FIS report for each community are accessible online through the FEMA Map Service Center at https://msc.fema.gov for comparison.

Submit comments and/or appeals to the Chief Executive Officer of the community as listed in the table below.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Map Information eXchange (FMIX) online at https://www.floodmaps.fema.gov/fhm/fmx_main.html.

SUPPLEMENTARY INFORMATION: The specific flood hazard determinations are not described for each community in this notice. However, the online location and local community map repository address where the flood hazard determination information is available for inspection is provided.

Any request for reconsideration of flood hazard determinations must be submitted to the Chief Executive Officer of the community as listed in the table below.

The modifications are made pursuant to section 201 of the Flood Disaster Protection Act of 1973, 42 U.S.C. 4105, and are in accordance with the National Flood Insurance Act of 1968, 42 U.S.C. 4001 et seq., and with 44 CFR part 65.

The FIRM and FIS report are the basis of the floodplain management measures that the community is required either to adopt or to show evidence of having in effect in order to qualify or remain qualified for participation in the National Flood Insurance Program (NFIP).

These flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. The flood hazard determinations are in accordance with 44 CFR 65.4.

The affected communities are listed in the following table. Flood hazard determination information for each community is available for inspection at both the online location and the respective community map repository address listed in the table below. Additionally, the current effective FIRM and FIS report for each community are accessible online through the FEMA Map Service Center at https://msc.fema.gov for comparison.

(Catalog of Federal Domestic Assistance No. 97.022, “Flood Insurance.”)

Michael M. Grimm,
Assistant Administrator for Risk Management, Department of Homeland Security, Federal Emergency Management Agency.

State and county | Location and case No. | Chief executive officer of community | Community map repository | Online location of letter of map revision | Date of modification | Community No.
Alabama:
Baldwin | Town of Loxley (19-04-6434P). | The Honorable Billy Middleton, Mayor, Town of Loxley, P.O. Box 9, Loxley, AL 36551. | Building Department, 1089 South Hickory Lane, Loxley, AL 36551. | https://msc.fema.gov/portal/advanceSearch. | Sep. 28, 2020 | 010009
St. Clair | City of Springville (19-04-5233P). | The Honorable Butch Isley, Mayor, City of Springville, P.O. Box 919, Springville, AL 35146. | City Hall, 6327 U.S. Highway 11, Springville, AL 35146. | https://msc.fema.gov/portal/advanceSearch. | Sep. 25, 2020 | 010289
Colorado: Jefferson | City of Westminster (20-08-0053P). | The Honorable Herb Atchison, Mayor, City of Westminster, 4800 West 92nd Avenue, Westminster, CO 80031. | City Hall, 4800 West 92nd Avenue, Westminster, CO 80031. | https://msc.fema.gov/portal/advanceSearch. | Dec. 4, 2020 | 080008
Florida:
Lee | City of Fort Myers (20-04-2960P). | Mr. Saeed Kazemi, Manager, City of Fort Myers, 1825 Hendry Street, Suite 101, Fort Myers, FL 33901. | Community Development Department, 1825 Hendry Street, Fort Myers, FL 33901. | https://msc.fema.gov/portal/advanceSearch. | Dec. 18, 2020 | 125106
Manatee | Unincorporated areas of Manatee County (20-04-3496P). | The Honorable Betsy Benac, Chair, Manatee County Board of Commissioners, 1112 Manatee Avenue West, Bradenton, FL 34205. | Manatee County Administration Building, 1112 Manatee Avenue West, Bradenton, FL 34205. | https://msc.fema.gov/portal/advanceSearch. | Dec. 21, 2020 | 120153
Palm Beach | Unincorporated areas of Palm Beach County (20-04-1768P). | Ms. Verdenia C. Baker, Palm Beach County Administrator, 301 North Olive Avenue, Suite 1101, West Palm Beach, FL 33401. | Palm Beach County Building Division, 2300 North Jog Road, West Palm Beach, FL 33411. | https://msc.fema.gov/portal/advanceSearch. | Dec. 14, 2020 | 120192
Polk | Unincorporated areas of Polk County (20-04-3597P). | The Honorable Bill Braswell, Chairman, Polk County Board of Commissioners, P.O. Box 9005, Drawer BC01, Bartow, FL 33831. | Polk County Land Development Division, 330 West Church Street, Bartow, FL 33830. | https://msc.fema.gov/portal/advanceSearch. | Dec. 24, 2020 | 120261
Seminole | City of Longwood (20-04-2794P). | The Honorable Clint Gioielli, Acting Manager, City of Longwood, 175 West Warren Avenue, Longwood, FL 32750. | City Hall, 175 West Warren Avenue, Longwood, FL 32750. | https://msc.fema.gov/portal/advanceSearch. | Dec. 21, 2020 | 120292
Oklahoma: Oklahoma | City of Harrah (20-06-0411P). | The Honorable Larry Fryar, Mayor, City of Harrah, 19625 Northeast 23rd Street, Harrah, OK 73045. | City Hall, 19625 Northeast 23rd Street, Harrah, OK 73045. | https://msc.fema.gov/portal/advanceSearch. | Dec. 14, 2020 | 400140
Oregon: Washington | Unincorporated areas of Washington County (19-10-1199P). | The Honorable Kathryn Harrington, Chair, Washington County Board of Commissioners, 155 North 1st Avenue, Suite 300, Hillsboro, OR 97124. | Washington County Land Use and Transportation Department, 1400 Southwest Walnut Street, Hillsboro, OR 97123. | https://msc.fema.gov/portal/advanceSearch. | Jan. 4, 2021 | 410238
Pennsylvania:
Montgomery | Township of Hatfield (20-03-0395P). | The Honorable Tom Zipfel, President, Township of Hatfield Board of Commissioners, 1950 School Road, Hatfield, PA 19440. | Township Hall, 1950 School Road, Hatfield, PA 19440. | https://msc.fema.gov/portal/advanceSearch. | Dec. 28, 2020 | 420699
Montgomery | Township of Hatfield (20-03-1140P). | The Honorable Tom Zipfel, President, Township of Hatfield Board of Commissioners, 1950 School Road, Hatfield, PA 19440. | Township Hall, 1950 School Road, Hatfield, PA 19440. | https://msc.fema.gov/portal/advanceSearch. | Dec. 18, 2020 | 420699
Montgomery | Township of Montgomery (20-03-0395P). | The Honorable Tanya C. Bamford, Chair, Township of Montgomery Board of Supervisors, 1001 Stump Road, Montgomeryville, PA 18936. | Planning and Zoning Department, 1001 Stump Road, Montgomeryville, PA 18936. | https://msc.fema.gov/portal/advanceSearch. | Dec. 28, 2020 | 421226
Texas:
Harris | Unincorporated areas of Harris County (20-06-2000P). | The Honorable Lina Hidalgo, Harris County Judge, 1001 Preston Street, Suite 911, Houston, TX 77002. | Harris County Permit Office, 10555 Northwest Freeway, Suite 120, Houston, TX 77092. | https://msc.fema.gov/portal/advanceSearch. | Dec. 14, 2020 | 480287
Kaufman | City of Forney (20-06-1624P). | The Honorable Mary Penn, Mayor, City of Forney, P.O. Box 826, Forney, TX 75126. | City Hall, 101 East Main Street, Forney, TX 75126. | https://msc.fema.gov/portal/advanceSearch. | Feb. 8, 2021 | 480410
Kaufman | Unincorporated areas of Kaufman County (20-06-1624P). | The Honorable Hal Richards, Kaufman County Judge, 100 West Mulberry Street, Kaufman, TX 75142. | Kaufman County Development Services Department, 106 West Grove Street, Kaufman, TX 75142. | https://msc.fema.gov/portal/advanceSearch. | Feb. 8, 2021 | 480411
Rockwall | City of Rockwall (20-06-1071P). | Mr. Richard R. Crowley, Manager, City of Rockwall, 385 South Goliad Street, Rockwall, TX 75087. | Engineering Department, 385 South Goliad Street, Rockwall, TX 75087. | https://msc.fema.gov/portal/advanceSearch. | Dec. 28, 2020 | 480547
Tarrant | City of Fort Worth (20-06-1449P). | The Honorable Betsy Price, Mayor, City of Fort Worth, 200 Texas Street, Fort Worth, TX 76102. | Department of Transportation and Public Works, Engineering Vault, 200 Texas Street, Fort Worth, TX 76102. | https://msc.fema.gov/portal/advanceSearch. | Dec. 24, 2020 | 480596
Williamson | City of Cedar Park (20-06-1685P). | The Honorable Corbin Van Arsdale, Mayor, City of Cedar Park, 450 Cypress Creek Road, Building 1, Cedar Park, TX 78613. | Engineering Department, 450 Cypress Creek Road, Building 1, Cedar Park, TX 78613. | https://msc.fema.gov/portal/advanceSearch. | Dec. 14, 2020 | 481282
Virginia:
Loudoun | Town of Purcellville (20-03-0501P). | The Honorable Kwasi Fraser, Mayor, Town of Purcellville, 221 South Nursery Avenue, Purcellville, VA 20132. | Planning and Zoning Department, 221 South Nursery Avenue, Purcellville, VA 20132. | https://msc.fema.gov/portal/advanceSearch. | Dec. 7, 2020 | 510231
Loudoun | Unincorporated areas of Loudoun County (20-03-0501P). | Mr. Tim Hemstreet, Loudon County Administrator, P.O. Box 7000, Leesburg, VA 20177. | Loudoun County Office of Mapping and Geographic Information, 1 Harrison Street, Southeast, Leesburg, VA 20175. | https://msc.fema.gov/portal/advanceSearch. | Dec. 7, 2020 | 510090

[FR Doc. 2020-22081 Filed 10-5-20; 8:45 am]

BILLING CODE 9110-12-P